DEPARTMENT OF THE TREASURY

Internal Revenue Service

26 CFR Parts 1 and 53

[REG-155929-06]

RIN 1545-BG31

Payout Requirements for Type III Supporting Organizations That Are Not Functionally Integrated; Correction

AGENCY: Internal Revenue Service (IRS), Treasury.

ACTION: Correction to notice of proposed rulemaking.

SUMMARY: This document contains a correction to a notice of proposed rulemaking (REG-155929-06) that was published in the Federal Register on Thursday, September 24, 2009. The proposed regulations provide further guidance regarding the requirements to qualify as a Type III supporting organization that is operated in connection with one or more supported organizations.

FOR FURTHER INFORMATION CONTACT: Philip T. Hackney or Don R. Spellmann at (202) 622-1124 (not a toll-free number).

SUPPLEMENTARY INFORMATION:

Background

The notice of proposed rulemaking that is the subject of this document is under section 509 of the Internal Revenue Code.

Need for Correction

As published, the notice of proposed rulemaking (REG-155929-06) contains an error that is misleading and is in need of clarification.

Correction to Publication

Accordingly, the notice of proposed rulemaking, published September 24, 2009 (74 FR 48672), which was the subject of FR Doc. E9-22866 is corrected as follows:

On page 48673, in the preamble, column 1, under the caption FOR FURTHER INFORMATION CONTACT, line 3, the language “at (202) 622-6070; concerning” is corrected to read “at (202) 622-1124; concerning”.

LaNita VanDyke,
Branch Chief, Publications and Regulations Branch, Legal Processing Division, Associate Chief Counsel (Procedure and Administration).

[FR Doc. E9-27215 Filed 11-12-09; 8:45 am]

BILLING CODE 4830-01-P